DEPARTMENT OF THE INTERIOR

Bureau of Land Management

[UTU 016431]

Public Land Order No. 7704; Partial Revocation of Public Land Order No. 1483; Utah

AGENCY: Bureau of Land Management, Interior.

ACTION: Public Land Order.

SUMMARY: This order partially revokes a Public Land Order insofar as it affects 80 acres of public land within a national forest, which was withdrawn and reserved for use of the Forest Service as the Mt. Olympus Powder Magazine Administrative Site. This order also opens 5.75 acres of that land to disposal in accordance with the Forest Service Facility Realignment and Enhancement Act of 2005.

DATES: Effective Date: April 17, 2008.

FOR FURTHER INFORMATION CONTACT: Rhonda Flynn, BLM Utah State Office, 440 West 200 South, Suite 500, Salt Lake City, Utah 84101-1345, 801-539-4132.

SUPPLEMENTARY INFORMATION: The Forest Service has determined that a portion of the withdrawal created by Public Land Order No. 1483 is no longer needed and has requested a partial revocation. Approximately 20 acres of the land described in Paragraph 1 is located within the Mt. Olympus Wilderness Area, and this is a record-clearing action for that portion. Except for the land described in Paragraph 2 being opened to sale, no land will be opened to surface entry or mining until completion of an analysis to determine if any of the land needs special designation.

Order

By virtue of the authority vested in the Secretary of the Interior by section 204 of the Federal Land Policy and Management Act of 1976, 43 U.S.C. 1714 (2000), it is ordered as follows:

1. Public Land Order No. 1483 (22 FR 7307), which withdrew public land within national forests and reserved it for use of the Forest Service for administrative sites, recreation areas, and a roadside zone, is hereby revoked only insofar as it affects the following described land:

Wasatch-Cache National Forest, Mt. Olympus Powder Magazine Administrative Site, Salt Lake Meridian

T.2 S., R. 1 E.

Sec. 11, lots 1 and 2 (formerly described as SE ¼ NE ¼) and NE ¼ SE ¼.

The area described contains approximately 80 acres in Salt Lake County.

2. Subject to valid existing rights, the following described land is hereby opened to sale in accordance with the Forest Service Facility Realignment and Enhancement Act of 2005 (Pub. L. 109-54):

Salt Lake Meridian

T.2 S., R. 1 E.

Sec. 11, lot 2.

The area described contains approximately 5.75 acres in Salt Lake County.

Dated: April 7, 2008.
C. Stephen Allred,
Assistant Secretary—Land and Minerals Management.

[FR Doc. E8-8321 Filed 4-16-08; 8:45 am]

BILLING CODE 3410-11-P